DEPARTMENT OF THE INTERIOR

Fish and Wildlife Service

Notice of Availability of Draft Recovery Goals for Four Endangered Fishes of the Colorado River Basin

AGENCY: Fish and Wildlife Service, Interior.

ACTION: Notice of document availability.

SUMMARY: To further the recovery of humpback chub (Gila cypha), bonytail (Gila elegans), Colorado pikeminnow (formerly named Colorado squawfish; Ptychocheilus lucius), and razorback sucker (Xyrauchen texanus), we, the Fish and Wildlife Service announce the availability of draft recovery goals for these endangered fishes of the Colorado River Basin. This information will serve as a supplement and amendment to the respective existing recovery plans for each species. The draft recovery goals for each species provide objective, measurable recovery criteria for downlisting and delisting that identify levels of demographic and genetic viability needed for self-sustaining populations and site-specific management actions/tasks needed to minimize or remove threats. We solicit review and comment from agencies and the public on these draft recovery goals. Reviewers should pay particular attention to the application of existing demographic and genetic data in the development of minimum viable population (MVP) standards and the downlisting and delisting monitoring periods associated with each species.

SUPPLEMENTARY INFORMATION: The purpose of these supplements and amendments are to describe site-specific management actions/tasks; provide objective, measurable recovery criteria; and provide estimates of the time required to achieve recovery of each of the four endangered fish species. The recovery goals for the humpback chub, razorback sucker, and bonytail are identified by two recovery units, upper basin (above Glen Canyon Dam, Arizona) and lower basin. Recovery of the Colorado pikeminnow is currently considered only for the upper basin. Downlisting and delisting criteria by listing factors and management actions, as well as demographic criteria, are presented for populations of each species within recovery units. In addition, updated life-history information, statistical criteria for monitoring, and estimated time to achieve downlisting and delisting requirements are also identified. These serve as supplements and amendments to the recovery plans by providing more specific objective and measurable criteria to recover each of the four fish species.

Copies of the Draft Recovery Goals will be mailed to interested parties upon request. The documents are also available (in *.pdf format) for viewing and downloading at: http://www.r6.fws.gov/crrip/rg.htm. Make requests and mail comments to the Director at the address below. You may submit comments by sending electronic mail (e-mail) to: colorivgoals @ fws.gov.

DATES: The agency must receive comments on or before October 25, 2001.

ADDRESSES: Mail comments and requests to Dr. Robert Muth, Director, Upper Colorado River Endangered Fish Recovery Program, U.S. Fish and Wildlife Service, Post Office Box 25486, DFC, Denver, Colorado, 80225. See SUPPLEMENTARY INFORMATION for information about electronic filing.

FOR FURTHER INFORMATION CONTACT: Dr. Robert Muth, Director (extension 268), Dr. Thomas Czapla (extension 228) or Ms. Debra Felker (extension 227), Coordinators (see ADDRESSES above), at telephone (303) 969-7322.

Dated: August 20, 2001.
Ralph O. Morgenweck,
Regional Director, Denver, CO.

[FR Doc. 01-22602 Filed 9-7-01; 8:45 am]

BILLING CODE 4310-55-P